DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and its expected burden. The Federal Register Notice with a 60-day comment period soliciting comments on the following collections of information was published on June 30, 2000, (65 FR, page 40716).

DATES: Comments must be submitted on or before December 4, 2000. A comment to OMB is most effective if OMB receives it within 30 days of publication.

ADDRESSES: Send comments to the Office of Information and Regulatory Affairs, Office of Management and Budget, 725—17th Street, NW., Washington, DC 20503, Attention: FAA Desk Officer.

FOR FURTHER INFORMATION CONTACT: Judy Street on (202) 267-9895.

SUPPLEMENTARY INFORMATION:

1. Title: Representatives of the Administrator, 14 CFR part 183.

Type of Request: Extension of a currently approved collection.

OMB Control Number: 2120-0033.

Forms(s) Affected Public: 4,840 respondents.

Abstract: Title 49, U.S.C. 44702, authorizes appointment of properly qualified private persons to be representatives of the Administrator for examining, testing, and certifying airmen for the purpose of issuing those individuals airmen certificates. The information collected is used to determine eligibility of the representatives.

Estimated Annual Burden Hours: 3,974 burden hours annually.

2. Title: Overflight Billing and Collection Customer Information Form.

Type of Request: Extension of a currently approved collection.

OMB Control Number: 2120-0618.

Forms(s): N/A.

Affected Public: 600 respondents.

Abstract: This information is needed to obtain accurate billing information from carriers who fly in U.S. controlled airspace, but who do not take off or land in the U.S. and who will be charged overflight fees.

Estimated Annual Burden Hours: 50 burden hours annually.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on October 31, 2000.
Steve Hopkins,
Manager, Standards and Information Division, APF-100.

[FR Doc. 00-28297 Filed 11-2-00; 8:45 am]

BILLING CODE 4910-13-M